NATIONAL SCIENCE FOUNDATION

Committee Management Renewal

The NSF management officials having responsibility for the Oversight Council for the International Arctic Center (#9535) have determined that renewing this group for another two years is necessary and in the public interest in connection with the performance of duties imposed upon the Director, National Science Foundation by 42 U.S.C. 1861 et seq. This determination follows consultation with the Committee Management Secretariat, General Services Administration.

For more information contact Susanne Bolton at (703) 292-7488.

Dated: May 9, 2006.
Susanne Bolton,
Committee Management Officer.

[FR Doc. 06-4490 Filed 5-12-06; 8:45 am]

BILLING CODE 7555-01-M